DEPARTMENT OF HEALTH AND HUMAN SERVICES

National Institutes of Health

National Institute on Deafness and Other Communication Disorders Draft 2022-2027 Strategic Plan

AGENCY: National Institutes of Health, HHS.

ACTION: Request for comment.

SUMMARY: The National Institute on Deafness and Other Communication Disorders (NIDCD), National Institutes of Health (NIH) is requesting public comment on the draft 2022-2027 NIDCD Strategic Plan. The Strategic Plan serves as a guide to the NIDCD in prioritizing its research investment and to address gaps in our research portfolio. The draft Plan presents a series of themes and goals that represent the most promising research needs within the NIDCD's mission areas of hearing, balance, taste, smell, voice, speech, and language.

DATES: Comments will be accepted from May 2, 2022 through May 31, 2022.

ADDRESSES: The draft Plan is available for download at: https://www.nidcd.nih.gov/about/strategic-plan/2022-2027/public-comment. Comments must be submitted electronically via the web-based form at: https://www.nidcd.nih.gov/about/strategic-plan/2022-2027/public-comment. The web-based form accepts text but cannot accept attachments. You will receive an electronic confirmation acknowledging receipt of your response but will not receive individualized feedback from NIDCD on any comments.

FOR FURTHER INFORMATION CONTACT: Specific questions regarding the NIDCD draft Strategic Plan should be directed to: Laura K. Cole, Ph.D., Planning and Evaluation Officer, Science Policy and Planning Branch, National Institute on Deafness and Other Communication Disorders, NIH, 31 Center Drive, Suite 3C25, Bethesda, MD 20892. Phone: 301-402-2313. Email: NIDCDStrategicPlan@mail.nih.gov.

SUPPLEMENTARY INFORMATION: This notice is in accordance with the 21st Century Cures Act, wherein NIH institutes are required to regularly update their strategic plans. The NIDCD's mission is to support research and training on the normal and disordered processes of hearing, balance, taste, smell, voice, speech, and language. Our vision is to advance the science of communication to improve lives. To accomplish these goals, the NIDCD manages a broad portfolio of both basic, translational, and clinical research. The portfolio is organized into three program areas: Hearing and balance; taste and smell; and voice, speech, and language. The three program areas seek to answer fundamental scientific questions about normal function and disorders and to identify patient-oriented scientific discoveries for preventing, screening, diagnosing, and treating disorders of human communication.

Responses to this request for comments are voluntary. Any personal identifiers (e.g., names, addresses, email addresses, etc.) will be removed when responses are compiled. Proprietary, classified, confidential, or sensitive information should not be included in your response. The Government reserves the right to use any non-proprietary technical information in any resultant solicitation(s).

This request for comment is for information and planning purposes only and should not be construed as a solicitation or as an obligation on the part of the Federal Government, or the NIH. The NIH does not intend to award a grant or contract to pay for the preparation of any information submitted or for the NIH's use of such information. No basis for claims against the NIH shall arise as a result of a response to this request for information or the NIH's use of such information as part of the NIDCD Strategic Plan.

The NIDCD anticipates that the finalized plan will be published on the NIDCD website in Fall 2022.

Dated: March 25, 2022.
Timothy J. Wheeles,
Executive Officer, National Institute on Deafness and Other Communication Disorders, National Institutes of Health.

[FR Doc. 2022-09317 Filed 4-29-22; 8:45 am]

BILLING CODE 4140-01-P